NATIONAL SCIENCE FOUNDATION

Notice of Intent To Prepare an Environmental Impact Statement and Initiate Section 106 Consultation for Proposed Changes to Arecibo Observatory Operations, Arecibo, Puerto Rico and Notice of Public Scoping Meetings and Comment Period

AGENCY: National Science Foundation.

ACTION: Notice of intent to prepare an Environmental Impact Statement and initiate Section 106 consultation for proposed changes to Arecibo Observatory operations, Arecibo, Puerto Rico and notice of public scoping meetings and comment period.

SUMMARY: In compliance with the National Environmental Policy Act of 1969, as amended, the National Science Foundation (NSF) intends to prepare an Environmental Impact Statement (EIS) to evaluate potential environmental effects of proposed changes to operations at Arecibo Observatory, in Arecibo, Puerto Rico. (See supplementary information below for more detail.) By this notice, NSF is announcing the beginning of the scoping process to solicit public comments and identify issues to be analyzed in the EIS. NSF also intends to initiate consultation under Section 106 of the National Historic Preservation Act to evaluate potential effects to the Arecibo Observatory, which is a historic property listed in the National Register of Historic Places.

DATES: This notice initiates the public scoping process for the EIS and the initiation of public involvement under Section 106 per 36 CFR 800.2(d). Comments on issues may be submitted verbally during scoping meetings scheduled for June 7, 2016 (see details below) or in writing until June 23, 2016. To be eligible for inclusion in the Draft EIS, all comments must be received prior to the close of the scoping period. NSF will provide additional opportunities for public participation upon publication of the Draft EIS.

ADDRESSES: You may submit comments related to this proposal by either of the following methods:

• Email to: envcomp-AST@nsf.gov, with subject line “Arecibo Observatory.”

• Mail to: Ms. Elizabeth Pentecost, RE: Arecibo Observatory, National Science Foundation, Suite 1045, 4201 Wilson Blvd., Arlington, VA 22230.

Scoping Meetings: NSF will host two public scoping meetings.

• Daytime meeting: June 7, 2016, at 9:30 a.m. to 11:30 a.m., DoubleTree by Hilton San Juan, 105 Avenida De Diego, San Juan, PR, Phone: (787) 721-6500.

• Evening meeting: June 7, 2016, 6:00 p.m. to 8:00 p.m., Colegio de Ingenieros y Agrimensores de Puerto Rico/Puerto Rico Professional College of Engineers and Land Surveyors (Arecibo Chapter), Ave. Manuel T. Guillán Urdáz, Conector 129 Carr. 10, Arecibo, Puerto Rico, Phone: (787) 758-2250.

Comments will be transcribed by a court reporter. Spanish language translation will be provided for simultaneous translation of presentations. Please contact NSF at least one week in advance of the meeting if you would like to request special accommodations (i.e., sign language interpretation, etc.).

FOR FURTHER INFORMATION CONTACT: For further information regarding the EIS process or Section 106 consultation, please contact: Ms. Elizabeth Pentecost, National Science Foundation, Division of Astronomical Sciences, Suite 1045, 4201 Wilson Blvd., Arlington, VA 22230; telephone: (703) 292-4907; email: epenteco@nsf.gov.

SUPPLEMENTARY INFORMATION: The Arecibo Observatory is an NSF-owned scientific research and education facility located in Puerto Rico. In 2011, NSF awarded a five-year Cooperative Agreement to SRI International (SRI), which together with Universities Space Research Association (USRA) and Universidad Metropolitana (UMET) have formed the Arecibo Management Team to operate and maintain the Arecibo Observatory for the benefit of research communities. Arecibo Observatory enables research in three scientific disciplines: Space and atmospheric sciences, radio astronomy, and solar system radar studies; the last of these is largely funded through a research award to USRA from the National Aeronautics and Space Administration. An education and public outreach program complements the Arecibo Observatory scientific program. A key component of the Arecibo Observatory research facility is a 305-meter diameter, fixed, spherical reflector. Arecibo Observatory infrastructure includes instrumentation for radio and radar astronomy, ionospheric physics, office and laboratory buildings, a heavily utilized visitor and education facility, and lodging facilities for visiting scientists.

Through a series of academic community-based reviews, NSF has identified the need to divest several facilities from its portfolio in order to retain the balance of capabilities needed to deliver the best performance on the key science of the present decade and beyond. In 2012, NSF's Division of Astronomical Sciences' (AST's) portfolio review committee recommended that “continued AST involvement in Arecibo . . . be re-evaluated later in the decade in light of the science opportunities and budget forecasts at that time.” In 2016, NSF's Division of Atmospheric and Geospace Sciences' (AGS') portfolio review committee recommended significantly decreasing funding for the Space and Atmospheric Sciences portion of the Arecibo mission. In response to these evolving recommendations, in 2016, NSF completed a feasibility study to inform and define options for the observatory's future disposition that would involve significantly decreasing or eliminating NSF funding of Arecibo. Concurrently, NSF sought viable concepts of operations from the scientific community via a Dear Colleague Letter NSF 16-005 (see www.nsf.gov/AST), with responses due by January 15, 2016. Alternatives to be evaluated in the EIS will be refined through continued public input, with preliminary alternatives that include the following:

• Continued NSF investment for science-focused operations (No-Action Alternative)

• Collaboration with interested parties for continued science-focused operations

• Collaboration with interested parties for transition to education-focused operations

• Mothballing of facilities (suspension of operations in a manner such that operations could resume efficiently at some future date)

• Deconstruction and site restoration

The purpose of the public scoping process is to determine relevant issues that will influence the scope of the environmental analysis, including identification of viable alternatives, and guide the process for developing the EIS. At present, NSF has identified the following preliminary resource areas for analysis of potential impacts: Air quality, biological resources, cultural resources, geological resources, solid waste generation, health and safety, socioeconomics, traffic, and groundwater resources. NSF will consult under Section 106 of the National Historic Preservation Act and Section 7 of the Endangered Species Act in coordination with this EIS process, as appropriate. Federal, state, and local agencies, along with other stakeholders that may be interested or affected by NSF's decision on this proposal are invited to participate in the scoping process and, if eligible, may request to participate as a cooperating agency.

Proposal Information: Information will be posted, throughout the EIS process, at www.nsf.gov/AST.

Dated: May 18, 2016.
Suzanne H. Plimpton,
Reports Clearance Officer, National Science Foundation.

[FR Doc. 2016-12036 Filed 5-20-16; 8:45 am]

BILLING CODE 7555-01-P